DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of section 250 of the Trade Act.

The purposes of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, D.C. provided such request if filed in writing with the Director of DTAA not later than November 16, 2001.

Also, interested persons are invited to submit written comments regarding the subject matter of the petitions to the director of DTAA at the address shown below not later than November 16, 2001.

Petitions filed with the Governors are available for inspection at the Office of the Director, DTAA, ETA, DOL, Room C-5311, 200 Constitution Avenue, NW., Washington, DC 20210.

Signed at Washington, DC this 23rd October, 2001.
Edward A. Tomchick,
Director, Division of Trade Adjustment Assistance.

Appendix
Subject firm | Location | Date received at Governor's Office | Petition No. | Articles produced
Joplin Mfg.—Orica USA (Co.) | Joplin, MO | 09/26/2001 | NAFTA-5,380 | Packaged explosives products.
Juki Union Special (Co.) | Santa Fe Spring, CA | 09/28/2001 | NAFTA-5,381 | Industrial sewing machines.
Wilson Sporting Goods (Wkrs) | Fountain Inn, SC | 10/01/2001 | NAFTA-5,382 | Sporting goods.
Hamrick's (Co.) | St. Matthews, SC | 10/01/2001 | NAFTA-5,383 | Ladies apparel.
Sara Lee Hosiery—Hanes Hosiery (Wkrs) | Yadkinville, NC | 10/01/2001 | NAFTA-5,384 | Pantyhose.
Lexington Fabrics (Co.) | Geraldine, AL | 09/06/2001 | NAFTA-5,385 | T-shirts.
GFC Foam—PMC, Inc. (USWA) | West Hazleton, PA | 10/02/2001 | NAFTA-5,386 | Flexible polyurethane foam.
Classic Knitting Mills (Co.) | Greensboro, NC | 09/21/2001 | NAFTA-5,387 | Fabric for golf shirts.
Mexican Industry (UAW) | Detroit, MI | 10/04/2001 | NAFTA-5,388 | DC motors.
Stephens Pipe (Co.) | Russell Springs, KY | 10/03/2001 | NAFTA-5,389 | Mechanical square tubing.
GE Capital/Card Services (Wkrs) | Bloomington, MN | 10/03/2001 | NAFTA-5,390 | Card services.
J and L Structural (USWA) | Ambridge, PA | 10/04/2001 | NAFTA-5,391 | Crossmember beams.
International Wire Group (Co.) | Pine Bluff, AR | 10/04/2001 | NAFTA-5,392 | Bare copper wire.
Liebert Corporation (Wkrs) | Irvine, CA | 10/03/2001 | NAFTA-5,393 | Subassemblies for power supplies.
Bond Technologies (Wkrs) | Huntington Beach, CA | 10/03/2001 | NAFTA-5,394 | Molded cables, harnesses & sheet metal.
Eudora Garment (Wkrs) | Gudora, AR | 10/04/2001 | NAFTA-5,395 | Work pants, dresses, coveralls.
Intermetro Industries (Wkrs) | Wilkes Barre, PA | 10/03/2001 | NAFTA-5,396 | Shelving and transport products.
Connolly North America (Wkrs) | El Paso, TX | 10/05/2001 | NAFTA-5,397 | Leather parts.
IFF, Inc. (Wkrs) | Salem, OR | 10/04/2001 | NAFTA-5,398 | Concentrated fruit juice.
Shirts Plus II (Wkrs) | Loretto, TN | 10/05/2001 | NAFTA-5,399 | Blank t-shirts.
Incoe Corporation (Wkrs) | Frankfort, MI | 10/09/2001 | NAFTA-5,400 | Plastic injection molds.
SBF, Inc.—Formfit Apparel (Co.) | Lafayette, TN | 10/09/2001 | NAFTA-5,401 | Intimate apparel.
3M Solutions (Wkrs) | Gretha, VA | 10/04/2001 | NAFTA-5,402 | Metal chassis.
Garan Manufacturing (Wkrs) | Adamsville, TX | 10/09/2001 | NAFTA-5,403 | Knit shirts.
Glad Rags (Wkrs) | Roanoke, VA | 09/04/2001 | NAFTA-5,404 | Women apparel.
W.G. Benjey (Wkrs) | Alpena, MI | 10/12/2001 | NAFTA-5,405 | Screws.
H.R. Jones Veneer (Co.) | Grand Ronde, OR | 10/02/2001 | NAFTA-5,406 | Veneer.
VF Imagewear (West) | Wilington, NC | 10/10/2001 | NAFTA-5,407 | Men and boys clothing.
VF Imagewear (West) (Co.) | Wartburg, TN | 10/09/2001 | NAFTA-5,408 | Work shirts.
Jen Sportwear (Wkrs) | San Fernando, CA | 10/02/2001 | NAFTA-5,409 | T-shirts and shorts etc.
Cosco (Wkrs) | Ft. Smith, AR | 10/12/2001 | NAFTA-5,410 | Wooden baby cribs.
Schmalbach Lubeca—Plastic Containers (Wkrs) | Erie, PA | 10/12/2001 | NAFTA-5,411 | Steel mold components.
Laser Tool (Co.) | Saegertown, PA | 10/12/2001 | NAFTA-5,412 | Plastic injection molds.
Cascades Tissue Group (Co.) | Pittston Township, PA | 10/11/2001 | NAFTA-55,413 | Paper products.
Bobs Candies (Co.) | Albany, GA | 10/11/2001 | NAFTA-5,414 | Hard candy.
Santee Company (The) (Wkrs) | Eden, NC | 10/11/2001 | NAFTA-5,415 | Knit, dye finish fabric.
Gilbert Paper—Mead Corp. (PACE) | Menasha, WI | 10/11/2001 | NAFTA-5,416 | Paper.
FCI USA (Co.) | Fremont, CA | 10/11/2001 | NAFTA-5,417 | Electronic connectors.
CTI Audio (Co.) | Conneaut, OH | 10/11/2001 | NAFTA-5,418 | Accessories for mobile communications.
Thermatex Corporation (PACE) | Newton Falls, OH | 10/05/2001 | NAFTA-5,419 | Ceramic fiber.
Communications and Power Industries (Co.) | Palo Alto, CA | 10/11/2001 | NAFTA-5,420 | Amplifers.
Stitches, Inc. (Co.) | El Paso, TX | 10/11/2001 | NAFTA-5,421 | Industrial apparel.
TNS Mills (Co.) | Spartanburg, SC | 10/11/2001 | NAFTA-5,422 | Woven fabric.
Wabash National (Wkrs) | Huntsville, TN | 10/09/2001 | NAFTA-5,423 | Steel.
Paulsen Wire Rope (Co.) | Sunbury, PA | 10/10/2001 | NAFTA-5,424 | Wire Rope.
Solectron Corp. (Wkrs) | Research Triangle Park, NC | 10/15/2001 | NAFTA-5,425 | Electronic devices.
Eastwood Industrial (Wkrs) | Albermarle, NC | 10/12/2001 | NAFTA-5,426 | Ladies shirts.
Richmond Technology & Illinois Tools (Wkrs) | Redlands, CA | 10/12/2001 | NAFTA-5,427 | Flexible packaging for electronics.
Controls, Inc. (Co.) | Logansport, IN | 10/12/2001 | NAFTA-5,428 | Printed circuit boards.
Harsco Corporation (Wkrs) | Lansing, OH | 10/15/2001 | NAFTA-5,429 | Steel pipe couplings.
Tect, Inc. (Co.) | Topton, PA | 10/15/2001 | NAFTA-5,430 | Sewing t-shirts.
Tect, Inc. | Allentown, PA | 10/15/2001 | NAFTA-5,431 | Cutting t-shirts.
Tect, Inc. (Co.) | Allentown, PA | 10/15/2001 | NAFTA-5,432 | Knitting cotton fabric.
Tect, Inc, (Co.) | Temple, PA | 10/15/2001 | NAFTA-5,433 | Sewing t-shirts.
Tect, Inc. (Co.) | Allentown, PA | 10/15/2001 | NAFTA-5,434 | Sew, embroider, screen, package t-shirts.
Case New Hollard (UAW) | Burlington, IA | 10/15/2001 | NAFTA-5,435 | Cylinder operation machining.
Purethane (Co.) | West Branch, IA | 10/15/2001 | NAFTA-5,436 | Automotive armrests.
ADC (Wkrs) | Minneapolis, MN | 10/16/2001 | NAFTA-5,437 | Tele-communication equipment.
United for Excellence (UFE) (Wkrs) | River Falls, WI | 10/17/2001 | NAFTA-5,438 | Electronics.
Midwest Garment (Co.) | Chesterfield, MO | 10/17/2001 | NAFTA-5,439 | Adult bibs, blankets, hospital gowns.
Monro and Co.—Clarendon Footwear (Co.) | Clarendon, AR | 10/15/2001 | NAFTA-5,440 | Men's casual & safety toe footwear.
Monro and Co.—Dewitt Footwear (Co.) | Dewitt, AR | 10/15/2001 | NAFTA-5,441 | Men's casual & safety toe footwear.
Weiser Lock (Co.) | Tucson, AZ | 10/17/2001 | NAFTA-5,442 | Door hardware and security.
Barranco Apparel Group Ruth of Carolina (Wkrs) | Hendersonville, NC | 10/17/2001 | NAFTA-5,443 | Children's dresses.
American Furniture (Wkrs) | Cincinnati, OH | 10/17/2001 | NAFTA-5,444 | Hotel and motel furniture.
Graphic Packaging (AWPPW) | Portland, OR | 10/16/2001 | NAFTA-5,445 | Cartons for frozen berries.
Wheeling Corragating (Wkrs) | Klamath Falls, OR | 10/12/2001 | NAFTA-5,446 | Metal roofing and siding.
VF Imagewear (West) (Co.) | Mathiston, MS | 10/17/2001 | NAFTA-5,447 | Work shirts.
Kings Mountain Hosiery Mill (Co.) | Kings Mountain, NC | 10/19/2001 | NAFTA-5,448 | Casual & dress socks.
Ruppe Hosiery (Co.) | Kings Mountain, NC | 10/19/2001 | NAFTA-5,449 | Casual & dress socks.
Pictsweet Mushroom Farm (Wkrs) | Salem, OR | 09/21/2001 | NAFTA-5,450 | Mushrooms.
Mauney Hosiery Mills (Co.) | Kings Mountain, NC | 10/22/2001 | NAFTA-5,451 | Socks.
Quality Mold (Wkrs) | Erie, PA | 10/22/2001 | NAFTA-5,452 | Molds.

[FR Doc. 01-27798 Filed 11-5-01; 8:45 am]

BILLING CODE 4510-30-M